DEPARTMENT OF AGRICULTURE

Animal and Plant Health Inspection Service

[Docket No. APHIS-2008-0140]

Changes to Treatments for Citrus Fruit From Australia

AGENCY: Animal and Plant Health Inspection Service, USDA.

ACTION: Notice of changes to phytosanitary treatments.

SUMMARY: We are advising the public that we are adding new approved phytosanitary treatment schedules to the Plant Protection and Quarantine Treatment Manual for certain species of citrus fruit imported from Australia into the United States. These new treatments will continue to prevent the introduction or interstate movement of quarantine pests in the United States.

FOR FURTHER INFORMATION CONTACT: Dr. Inder P.S. Gadh, Senior Risk Manager—Treatments, PPQ, APHIS, 4700 River Road Unit 133, Riverdale, MD 20737-1231; (301) 7340627.

SUPPLEMENTARY INFORMATION:

Background

The phytosanitary treatments regulations contained in 7 CFR part 305 (referred to below as the regulations) set out general requirements for conducting treatments indicated in the Plant Protection and Quarantine (PPQ) Treatment Manual ¹ for fruits, vegetables, and articles to prevent the introduction or dissemination of plant pests or noxious weeds into or through the United States.

¹ The PPQ Treatment Manual can be viewed on the Internet at http://www.aphis.usda.gov/import_export/plants/manuals/ports/treatment.shtml.

On October 19, 2009, we published in the Federal Register (74 FR 53424-53430, Docket No. APHIS-2008-0140) a proposal ² to amend the regulations by adding new treatment schedules for sweet cherries and certain species of citrus fruit imported from Australia into the United States. We also proposed to establish an approved irradiation dose for Mediterranean fruit fly (Medfly) of 100 gray. Our analysis affirming the efficacy of all the proposed treatments was presented in a treatment evaluation document that was made available with the proposed rule.

² To view the proposed rule, the notice, the comments we received, and the treatment evaluation document, go to http://www.regulations.gov/fdmspublic/component/main?main=DocketDetail&d=APHIS-2008-0140.

We solicited comments concerning our proposal for 60 days ending December 18, 2009, and received five comments by that date. They were from a State plant protection official, a research entomologist, a foreign national plant protection organization representative, and two students. One commenter simply pointed out a misspelling. The remaining commenters either raised issues about sweet cherries and Medfly specifically or commented generally on the treatments for both sweet cherries and citrus fruit.

We considered those comments and, in a notice dated August 4, 2010 (75 FR 46901-46902, Docket No. APHIS 2008-0140), informed the public of our conclusion that none raised any issues sufficient to warrant changes to the proposed treatments for sweet cherries and Medfly. Accordingly, we announced that we were amending the PPQ Treatment Manual to include the new treatment schedules for sweet cherries and the revised irradiation dose for Medfly. Also, as none of the comments raised issues sufficient to warrant changes to the proposed treatments for certain species of citrus fruit, we noted that we would update treatment schedules for citrus fruit at a later date and would announce those changes through a notice.

Accordingly, in this current notice, we are announcing that we are amending the PPQ Treatment Manual to include the new treatment schedules for certain species of citrus fruit from Australia.

Authority: 7 U.S.C. 7701-7772 and 7781-7786; 21 U.S.C. 136 and 136a; 7 CFR 2.22, 2.80, and 371.3.

Done in Washington, DC, this 21st day of March 2011.
Kevin Shea,
Acting Administrator, Animal and Plant Health Inspection Service.

[FR Doc. 2011-7097 Filed 3-29-11; 8:45 am]

BILLING CODE 3410-34-P